DEPARTMENT OF TRANSPORTATION

Federal Transit Administration

Limitation on Claims Against Proposed Public Transportation Project—Honolulu Rail Transit Project Modifications

AGENCY: Federal Transit Administration (FTA), Department of Transportation (DOT).

ACTION: Notice.

SUMMARY: This notice announces final environmental actions taken by the Federal Transit Administration (FTA) regarding the Honolulu Rail Transit Project, City of Honolulu, Honolulu County, Hawaii. The purpose of this notice is to publicly announce FTA's environmental decisions on the subject project, and to activate the limitation on any claims that may challenge these final environmental actions.

DATES: A claim seeking judicial review of FTA actions announced herein for the listed public transportation project will be barred unless the claim is filed on or before January 29, 2024.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov.

This notice applies to all FTA decisions on the listed project as of the issuance date of this notice and all laws under which such actions were taken, including, but not limited to, NEPA (42 U.S.C. 4321-4375), Section 4(f) requirements (49 U.S.C. 303), Section 106 of the National Historic Preservation Act (54 U.S.C. 306108), Uniform Relocation and Real Property Acquisition Policies Act (42 U.S.C. 4601). This notice does not, however, alter or extend the limitation period for challenges of project decisions subject to previous notices published in the Federal Register. The project modifications and actions that are the subject of this notice follow:

Project name and location: Honolulu Rail Transit Project (Project), City of Honolulu, Honolulu County, Hawaii. Project Sponsor: Honolulu Authority for Rapid Transportation (HART), Honolulu, Hawaii. Project description: The Project is a 20-mile, automated fixed-guideway rail system with 21 stations extending from East Kapolei to Ala Moana Transit. The Project is separated into three phases, two of which have been constructed. FTA issued the Honolulu High-Capacity Transit Corridor Project Final Environmental Impact Statement/Section 4(f) Evaluation in June 2010, and a Record of Decision (ROD) in January 2011. Subsequent to the original ROD, FTA issued the Honolulu High-Capacity Transit Corridor Project Final Supplemental Environmental Impact Statement (FSEIS)/Section 4(f) Evaluation and amended ROD in September 2013. FTA also published a notice of limitation on claims against the Project on November 1, 2013, per 23 U.S.C. 139(l). Since then, FTA has completed a re-evaluation of the Project to address changes that have been proposed by HART resulting from design modifications (e.g., reducing the number of stations to 19), temporary reduction in the length of the Project from 20 miles to 18.9 miles, and stakeholder coordination. This notice only applies to the discrete actions taken by FTA under the re-evaluation described below.

Final agency actions: FTA determined as the result of the re-evaluation that neither a Supplemental Environmental Impact Statement nor a Supplemental Environmental Assessment is necessary, and the 2011 ROD, and September 2013 FSEIS and amended ROD remain valid.

Supporting documentation: Environmental Re-evaluation concerning the Project modifications dated August 24, 2023. All supporting documentation can be viewed and downloaded from: https://www.transit.dot.gov/regulations-and-guidance/environmental-programs/environmental-decision-documents.

Authority: 23 U.S.C. 139(l)(1).

Mark Ferroni,
Deputy Associate Administrator for Planning and Environment.

[FR Doc. 2023-18859 Filed 8-30-23; 8:45 am]

BILLING CODE 4910-57-P